DEPARTMENT OF JUSTICE

Notice of Lodging of Consent Decree Under the Clean Air Act, the Comprehensive Environmental Response, Compensation, and Liability Act, and the Emergency Planning and Community Right-To-Know Act

In accordance with 28 U.S.C. section 50.7, notice is hereby given that on October 16, 2003, a proposed Consent Decree in United States, et al. v. Chevron U.S.A. Inc., Civil Action No. C: 03-4650 MEJ, was lodged with the United States District Court for the Northern District of California.

In this action, the United States sought injunctive relief and penalties against Chevron U.S.A. Inc. (“Chevron”), pursuant to Section 113(b) of the Clean Air Act (“CAA”), 42 U.S.C. 7413(b), section 109(c) of the Comprehensive Environmental Response, Compensation, and Liability Act (“CERCLA”), 42 U.S.C. 9609(c), and section 325(b) of the Emergency Planning and Community Right-to-Know Act (“EPCRA”), 42 U.S.C. 11045(b) (3), for alleged environmental violations at Chevron's petroleum refineries located in El Segundo, California; Richmond, California; Kapolei, Hawaii; Pascagoula, Mississippi; and Salt Lake City, Utah. The States of Hawaii and Utah, the Mississippi Commission on Environmental Quality, and the Bay Area Air Quality Management District of California have joined in this settlement as signatories to the Consent Decree.

The proposed Consent Decree requires Chevron to implement innovative pollution control technologies to greatly reduce emissions of nitrogen oxides (“NOx”) and sulfur dioxide (“SO2”) from refinery process units, to reduce the number and impact of flaring events, and to adopt facility-wide enhanced monitoring and fugitive emission control programs. In additional, Chevron will pay a civil penalty of $3.5 million and perform supplemental environmental projects with a value of at least $4.55 million.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. Chevron U.S.A. Inc., D.J. Ref. 90-5-2-2-07629.

The Consent Decree may be examined at the Office of the United States Attorney for the Northern District of California, 450 Golden Gate Avenue, San Francisco, CA 94102 (attn: Charles O'Connor), and at U.S. EPA Region 8, 999 18th Street, Suite 300, Denver, CO 80202-2466 (attn: Cindy Reynolds). During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no (202) 514-0097, phone confirmation number (202) 514-1547. In requesting a copy of the Consent Decree from the Consent Decree Library, please enclose a check in the amount of $52.25 (25 cents per page reproduction cost) payable to the U.S. Treasury.

Robert D. Brook,
Assistant Section Chief, Environmental Enforcement Section, Environment and Natural Resources Division.

[FR Doc. 03-27256 Filed 10-28-03; 8:45 am]

BILLING CODE 4410-15-M